NATIONAL SCIENCE FOUNDATION

Notice of Permit Applications Received Under the Antarctic Conservation Act of 1978 (Pub. L. 95-541)

AGENCY: National Science Foundation.

ACTION: Notice of Permit Applications Received under the Antarctic Conservation Act of 1978, Public Law 95-541.

SUMMARY: The National Science Foundation (NSF) is required to publish notice of permit applications received to conduct activities regulated under the Antarctic Conservation Act of 1978. NSF has published regulations under the Antarctic Conservation Act at title 45 part 670 of the Code of Federal Regulations. This is the required notice of permit applications received.

DATES: Interested parties are invited to submit written data, comments, or views with respect to this permit application by May 28, 2010. This application may be inspected by interested parties at the Permit Office, address below.

ADDRESSES: Comments should be addressed to Permit Office, Room 755, Office of Polar Programs, National Science Foundation, 4201 Wilson Boulevard, Arlington, Virginia 22230.

FOR FURTHER INFORMATION CONTACT: Nadene G. Kennedy at the above address or (703) 292-7405.

SUPPLEMENTARY INFORMATION: The National Science Foundation, as directed by the Antarctic Conservation Act of 1978 (Pub.L. 95-541), as amended by the Antarctic Science, Tourism and Conservation Act of 1996, has developed regulations for the establishment of a permit system for various activities in Antarctica and designation of certain animals and certain geographic areas a requiring special protection. The regulations establish such a permit system to designate Antarctic Specially Protected Areas.

The applications received are as follows:

1. Applicant: David Ainley, H.T. Harvey & Associates, 983 University Avenue, Bldg. D, Los Gatos, CA 95032.

Permit Application No. 2011-002.

Activity for Which Permit is Requested: Take and Enter Antarctic Specially Protected Areas (ASPA). The applicant plans to Cape Crozier (ASPA 124), Cape Royds (ASPA 121), Cape Bird, and Beaufort Island (ASPA 105) to study penguins and the effect of age, experience and physiology on individual foraging efficiency and breeding performance, and develop a comprehensive population model for the Ross-Beaufort metapopulations incorporating all factors investigated. The applicant plans to band up to 1800 fledgling Adelie chicks, apply TDR's to 45 adult Adelies, which will be removed later, and blood samples taken. Up to 400 Adelie chicks will be weighed, 300 adults will have PIT tags implanted, and up to 1500 nests will be marked. In addition, a tower will be erected to support a remote camera at Cape Royds, two weigh-bridges will be set up at Cape Crozier, and two in-ground PIT-tag antennas will be set up at Cape Royds.

Location: Cape Crozier (ASPA 124), Cape Royds (ASPA 121), Cape Bird, and Beaufort Island (ASPA 105).

Dates: September 1, 2010 to August 31, 2015.

Nadene G. Kennedy,
Permit Officer, Office of Polar Programs.

[FR Doc. 2010-9780 Filed 4-27-10; 8:45 am]

BILLING CODE 7555-01-P